ENVIRONMENTAL PROTECTION AGENCY

[EPA-HQ-OAR-2024-0334; FRL-12794-01-OMS]

Agency Information Collection Activities; Submission to the Office of Management and Budget for Review and Approval; Comment Request; Acid Rain Program Under Title IV of the Clean Air Act Amendments (Renewal)

AGENCY: Environmental Protection Agency (EPA).

ACTION: Notice.

SUMMARY: The Environmental Protection Agency (EPA) has submitted an information collection request (ICR), Acid Rain Program under Title IV of the Clean Air Act Amendments (EPA ICR Number 1633.19, OMB Control Number 2060-0258) to the Office of Management and Budget (OMB) for review and approval in accordance with the Paperwork Reduction Act. This is a proposed extension of the ICR, which is currently approved through May 31, 2025. Public comments were previously requested via the Federal Register on September 5, 2024 during a 60-day comment period. This notice allows for an additional 30 days for public comments.

DATES: Comments may be submitted on or before June 26, 2025.

ADDRESSES: Submit your comments, referencing Docket ID Number EPA-HQ-OAR-2024-0334, to EPA online using www.regulations.gov (our preferred method), by email to a-and-r-Docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Morgan Riedel, Clean Air and Power Division, Office of Atmospheric Protection, 6204A, Environmental Protection Agency, 1200 Pennsylvania Ave. NW, Washington, DC 20460; telephone number: (202) 564-1144; email address: riedel.morgan@epa.gov.

SUPPLEMENTARY INFORMATION: This is a proposed extension of the ICR, which is currently approved through May 31, 2025. An agency may not conduct or sponsor and a person is not required to respond to a collection of information unless it displays a currently valid OMB control number.

Public comments were previously requested via the Federal Register on September 5, 2024 during a 60-day comment period (89 FR 72393). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The Acid Rain Program was established under Title IV of the 1990 Clean Air Act Amendments to address acid deposition by reducing emissions of sulfur dioxide (SO2) and nitrogen oxides (NOX). This information collection extension is necessary to continue implementation of the Acid Rain Program. It includes burden and costs associated with developing and modifying permits, complying with NOX permitting requirements, monitoring emissions, transferring allowances, and participating in the annual allowance auctions.

Form Numbers: Agent Notice of Delegation #5900-172, Certificate of Representation #7610-1, General Account Form #7610-5, Allowance Transfer Form #7610-6, Retired Unit Exemption#7610-20, Allowance Deduction #7620-4, Acid Rain Permit Application #7610-16, Acid Rain NOXCompliance Plan #7610-28, Acid Rain NOXAveraging Plan #7610-29, New Unit Exemption #7610-19, Opt-In Permit Application #7610-26, Opt-In Utilization Report #7620-9, Letter of Credit #7610-7A, EPA Allowance Auctions—Additional Information for Certified Checks or Wire Transfers #7610-7, SO2 Allowance Offer Form #7610-8, Thermal Energy Plan #7610-27, Notification For Distribution of Proceeds From EPA Auctions #7610-11, Opt-In Reduction from Improved Efficiency Confirmation Report #7620-8, Thermal Energy Compliance Report #7620-10.

Respondents/affected entities: Electricity generating plants, industrialsources, and other persons.

Respondent's obligation to respond: Voluntary and mandatory (Clean Air Act sections 403, 407, 408, 410, 412, and 416).

Estimated number of respondents: 1,195 (total).

Frequency of response: On occasion, quarterly, and annually.

Total estimated burden: 1,760,519 hours (per year). Burden is defined at 5 CFR 1320.03(b).

Total estimated cost: $286,211,330 (per year), which includes $123,208,182 annualized capital or operation & maintenance costs.

Changes in the estimates: There is a decrease of 65,614 hours in the total estimated respondent burden compared with the ICR currently approved by OMB. This decrease is due to source retirements, which have both reduced the estimated overall number of affected sources and shifted the estimated mix of monitoring methodologies used. The other factors contributing to the decrease in burden are reductions in the estimated numbers of allowance transfer and deduction submissions, and allowance auction bids.

Courtney Kerwin,
Director, Information Engagement Division.

[FR Doc. 2025-09386 Filed 5-23-25; 8:45 am]

BILLING CODE 6560-50-P